DEPARTMENT OF COMMERCE

Foreign-Trade Zones Board

[B-43-2012]

Foreign-Trade Zone 139—Sierra Vista, AZ; Application for Reorganization Under Alternative Site Framework

An application has been submitted to the Foreign-Trade Zones (FTZ) Board (the Board) by the Sierra Vista Economic Development Foundation, Inc., grantee of FTZ 139, requesting authority to reorganize the zone under the alternative site framework (ASF) adopted by the Board (15 CFR Sec. 400.2(c)). The ASF is an option for grantees for the establishment or reorganization of general-purpose zones and can permit significantly greater flexibility in the designation of new subzones or “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on June 5, 2012.

FTZ 139 was approved by the Board on March 13, 1987 (Board Order 352, 52 FR 9320, 03/24/1987). The current zone project includes the following site: Site 1 (4.7 acres)—Sierra Vista Commerce Center, Highway 90, Sierra Vista.

The grantee's proposed service area under the ASF would be Cochise County, Arizona, as described in the application. If approved, the grantee would be able to serve sites throughout the service area based on companies' needs for FTZ designation. The proposed service area is within and adjacent to the Naco U.S. Customs and Border Protection port of entry.

The applicant is requesting authority to reorganize its existing zone project to include the existing site as a “magnet” site. No subzones/usage-driven sites are being requested at this time.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is August 13, 2012. Rebuttal comments in response to material submitted during the foregoing period may be submitted during the subsequent 15-day period to August 27, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Christopher Kemp at Christopher.Kemp@trade.gov or (202) 482-0862.

Dated: June 5, 2012.
Elizabeth Whiteman,
Acting Executive Secretary.

[FR Doc. 2012-14266 Filed 6-11-12; 8:45 am]

BILLING CODE P